DEPARTMENT OF ENERGY

Federal Energy Regulatory Commission

[Docket No. AD21-15-000]

Joint Federal-State Task Force on Electric Transmission; Notice of Meeting and Agenda

As first announced in the Commission's January 5, 2023 Notice in the above-captioned docket,¹ the next public meeting of the Joint Federal-State Task Force on Electric Transmission (Task Force) will be held on February 15, 2023, at the Renaissance Washington Downtown Hotel in Washington, DC, from approximately 1:30 p.m. to 4:00 p.m. Eastern time. Commissioners may attend and participate in this meeting. Attached to this Notice is an agenda for the meeting.

¹ Joint Fed.-State Task Force on Elec. Transmission, Notice, Docket No. AD21-15-000 (issued Jan. 5, 2023).

The meeting will be open to the public for listening and observing and on the record. There is no fee for attendance and registration is not required. The public may attend in person or via Webcast.² This conference will be transcribed. Transcripts will be available for a fee from Ace Reporting, 202-347-3700.

² A link to the Webcast will be available on the day of the event at https://www.ferc.gov/TFSOET.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Gretchen Kershaw, 202-502-8213, gretchen.kershaw@ferc.gov; or Sarah Fitzpatrick, (202) 898-2205, sfitzpatrick@naruc.org. For information related to logistics, please contact Benjamin Williams, 202-502-8506, benjamin.williams@ferc.gov; or Rob Thormeyer, 202-502-8694, robert.thormeyer@ferc.gov.

For more information about this Notice, please contact: Gretchen Kershaw (Legal Information), Office of the General Counsel, (202) 502-8213, Gretchen.Kershaw@ferc.gov.

Dated: February 1, 2023.
Debbie-Anne A. Reese,
Deputy Secretary.

Joint Federal-State Task Force on Electric Transmission

Docket No. AD21-15-000

February 15, 2023, 1:30-4:00 p.m.

Agenda

Topic: Physical Security of the Transmission System

Guest Speakers: James “Jim” B. Robb, President and Chief Executive Officer, North American Electric Reliability Corporation; Puesh M. Kumar, Director, Office of Cybersecurity, Energy; Security, and Emergency Response, U.S. Department of Energy

[FR Doc. 2023-02610 Filed 2-7-23; 8:45 am]

BILLING CODE 6717-01-P